DEPARTMENT OF AGRICULTURE

Forest Service

Huron-Manistee National Forests, White Pines Wind Farm Project, Mason County, MI

AGENCY: Forest Service, USDA.

ACTION: Cancellation Notice of notice of intent to prepare an environmental impact statement.

SUMMARY: The Forest Service proposed to prepare an environmental impact statement for the White Pines Wind Farm Project on National Forest System (NFS) lands managed by the Huron-Manistee National Forests. This project has been cancelled. This cancellation notice terminates the environmental analysis process for the White Pines Wind Farm Project.

DATES: The Notice of Intent to prepare the White Pines Wind Farm Project environmental impact statement was published in the Federal Register on September 12, 2008, Vol. 73, No. 178, page 52945. The draft environmental impact statement was expected May 2009 and the final environmental impact statement was expected December 2009. This project has been cancelled.

FOR FURTHER INFORMATION CONTACT: Patricia O'Connell, Cadillac-Manistee Ranger District, Huron-Manistee National Forests; Manistee Ranger Stations, 412 Red Apple Road, Manistee, MI 49660; telephone: 231-723-2211, ext. 3119; fax: 231-723-8642; e-mail: poconnell@fs.fed.us. Information updating the status of this project can be found on the Forest's Web site at: http://fs.usda.gov/Internet/FSE_DOCUMENTS/stelprdb5150088.pdf.

Responsible Official

Barry Paulson, Forest Supervisor, Huron-Manistee National Forests, 1755 S. Mitchell Street, Cadillac, MI 49601.

Dated: April 26, 2010.
Barry Paulson,
Forest Supervisor.

[FR Doc. 2010-10397 Filed 5-3-10; 8:45 am]

BILLING CODE 3410-11-M